DEPARTMENT OF THE INTERIOR

National Park Service

[N6845; NPS-WASO-NAGPRA-NPS0041751; PPWOCRADN0-PCU00RP14.R50000]

Notice of Inventory Completion: Oberlin College, Oberlin, OH

AGENCY: National Park Service, Interior.

ACTION: Notice.

SUMMARY: In accordance with the Native American Graves Protection and Repatriation Act (NAGPRA), Oberlin College has completed an inventory of human remains and associated funerary objects and has determined that there is a cultural affiliation between the human remains and associated funerary objects and Indian Tribes or Native Hawaiian organizations in this notice.

DATES: Repatriation of the human remains and associated funerary objects in this notice may occur on or after February 12, 2026.

ADDRESSES: Send written requests for repatriation of the human remains and associated funerary objects in this notice to Dr. Amy Margaris, Oberlin College, Department of Anthropology, King Building, 10 N Professor Street, Oberlin, OH 44074, email amy.margaris@oberlin.edu.

SUPPLEMENTARY INFORMATION: This notice is published as part of the National Park Service's administrative responsibilities under NAGPRA. The determinations in this notice are the sole responsibility of Oberlin College, and additional information on the determinations in this notice, including the results of consultation, can be found in its inventory or related records. The National Park Service is not responsible for the determinations in this notice.

Abstract of Information Available

Human remains representing at least one individual have been identified. The one associated funerary object is a textile fragment.

Lot 11 was recovered from Scioto County, Ohio and consists of one rib fragment, two finger bones, and two teeth totaling an MNI of one. They were found in the collection of the Oberlin College Department of Geology accompanied by a handwritten note that reads “10570, remains from Indian mound near Portsmouth, O. By Mr. Chad Hilton, one fragment of rib, two finger joints, two teeth.” It is not known if potentially hazardous substances were used to treat any of the human remains or associated funerary objects.

A textile fragment, roughly 3 x 6 cm and preserved in wax between two glass plates, was recovered from the Westenhaver Mound site (33PI11) in Pickaway County, Ohio and is recorded as accession #224 in the accession book of the former Oberlin College Museum. An accompanying tag reads “Mound Builders' cloth. Taken from a mound 7 ½ miles S of Circleville, Ohio. July 21, 1884. Presented by Louise S. Stewart. '89”. A note by Oberlin Museum curator A.A. Wright in the Oberlin College Archives describes the fragment as taken from a mound on the farm of Joseph Westenhaver by W.D. Chamberlin of Dayton, OH. The note goes on to describe the mound dimensions and discovery in the mound of a human burial, burial cloth, charcoal, and a polished stone ornament. Two scientific articles on the Westenhaver site were published in 2018 by George H. Colvin in the journal Ohio Archaeologist (issues 1 and 3). It is not known if potentially hazardous substances were used to treat the textile fragment.

Cultural Affiliation

Based on the information available and the results of consultation, cultural affiliation is reasonably identified by the geographical location or acquisition history of the human remains and associated funerary objects described in this notice.

Determinations

Oberlin College has determined that:

• The human remains described in this notice represent the physical remains of at least one individual of Native American ancestry.

• The one object described in this notice is reasonably believed to have been placed intentionally with or near individual human remains at the time of death or later as part of the death rite or ceremony.

• There is a connection between the human remains and associated funerary objects described in this notice and the Absentee-Shawnee Tribe of Indians of Oklahoma; Eastern Shawnee Tribe of Oklahoma; Match-e-be-nash-she-wish Band of Pottawatomi Indians of Michigan; Miami Tribe of Oklahoma; Shawnee Tribe, and the Wyandotte Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 12, 2026. If competing requests for repatriation are received, Oberlin College must determine the most appropriate requestor prior to repatriation. Requests for joint repatriation of the human remains and associated funerary objects are considered a single request and not competing requests. Oberlin College is responsible for sending a copy of this notice to the Indian Tribes and Native Hawaiian organizations identified in this notice and any other consulting parties.

Authority: Native American Graves Protection and Repatriation Act, 25 U.S.C. 3003, and the implementing regulations, 43 CFR 10.10.

Dated: January 5, 2026.
Melanie O'Brien,
Manager, National NAGPRA Program.

[FR Doc. 2026-00465 Filed 1-12-26; 8:45 am]

BILLING CODE 4312-52-P